DEPARTMENT OF JUSTICE

Notice of Lodging of Consent Decree Under the Clean Air Act

Notice is hereby given that on December 15, 2011, a proposed Consent Decree (“proposed Decree”) in United States v. CalPortland Company, Civil Action No. 1:11-at-00790, was lodged with the United States District Court for the Eastern District of California, Fresno Division.

In this action under Sections 113(b) and 167 of the Clean Air Act, 42 U.S.C. 7413(b) and 7477, the United States seeks injunctive relief and civil penalties for violations of the Prevention of Significant Deterioration (“PSD”) provisions of the Clean Air Act, 42 U.S.C. 7470-7492, the PSD regulation set forth at 40 CFR 52.21, and Title V of the Clean Air Act, 42 U.S.C. 7661-7661f, and Title V's implementing federal and state regulations, at a portland cement manufacturing plant located near Mojave, California.

The proposed Decree resolves the United States' claims against CalPortland Company (“Defendant”) by requiring Defendant to install and operate appropriate emission controls at its kiln, and requires Defendant to pay a civil penalty of $1,425,000 to the United States.

The Department of Justice will receive, for a period of thirty (30) days from the date of this publication, comments relating to the proposed Consent Decree. Comments should be addressed to the Assistant Attorney General, Environment and Natural Resources Division, and either emailed to pubcomment-ees.enrd@usdoj.gov or mailed to P.O. Box 7611, U.S. Department of Justice, Washington, DC 20044-7611, and should refer to United States v. CalPortland Company, D.J. Ref. No. 90-5-2-1-08306/2.

The proposed Decree may be examined at the office of the United States Attorney's Office, Eastern District of California, 501 I Street, Suite 10-100, Sacramento, California 95814, and at the United States Environmental Protection Agency, Region IX, attention: Chief, Air Enforcement Office, 75 Hawthorne Street, AIR-5, San Francisco, California 94105. During the public comment period, the proposed Decree may also be examined on the following Department of Justice Web site: http://www.usdoj.gov/enrd/Consent Decrees.html. A copy of the proposed Decree may also be obtained via U.S. mail by making a written request to the Consent Decree Library, P.O. Box 7611, U.S. Department of Justice, Washington, DC 20044-7611, or by faxing or emailing a request to Tonia Fleetwood (tonia.fleetwood@usdoj.gov), fax number (202) 514-0097 (phone confirmation number (202) 514-1547). In requesting a copy from the Consent Decree Library, please enclose a check in the amount of $15.50 (25 cents per page reproduction cost) payable to the U.S. Treasury or, if requesting by email or fax, please forward a check in that amount to the Consent Decree Library at the stated address.

Henry Friedman,
Assistant Chief, Environmental Enforcement Section, Environment and Natural Resources Division.

[FR Doc. 2011-32974 Filed 12-22-11; 8:45 am]

BILLING CODE 4410-15-P